DEPARTMENT OF DEFENSE

GENERAL SERVICES ADMINISTRATION

NATIONAL AERONAUTICS AND SPACE ADMINISTRATION

48 CFR Part 52

[FAC 2005-56; FAR Case 2010-015; Item I; Docket 2010-0015, Sequence 1]

RIN 9000-AL97

Federal Acquisition Regulation; Women-Owned Small Business (WOSB) Program

Correction

In rule document 2012-4475 appearing on pages 12913 through 12924 in the issue of Friday, March 2, 2012 make the following correction. On page 12918, Part 52—Solicitation Provisions and Contract Clauses, is reprinted in its entirety due to numerous errors. It should appear as follows:

PART 52—SOLICITATION PROVISIONS AND CONTRACT CLAUSES

12. Amend section 52.212-3 by revising the date of the provision and paragraphs (c)(6)(ii), (c)(7)(i), and (c)(7)(ii) to read as follows:

52.212-3 Offeror Representations and Certifications—Commercial Items.

* * * * *

Offeror Representations and Certifications—Commercial Items (APR 2012)

* * * * *

(c) * * *

(6) * * *

(ii) It ☐ is, ☐ is not a joint venture that complies with the requirements of 13 CFR part 127, and the representation in paragraph (c)(6)(i) of this provision is accurate for each WOSB concern eligible under the WOSB Program participating in the joint venture. [The offeror shall enter the name or names of the WOSB concern eligible under the WOSB Program and other small businesses that are participating in the joint venture: _____.] Each WOSB concern eligible under the WOSB Program participating in the joint venture shall submit a separate signed copy of the WOSB representation.

(7) * * *

(i) It ☐ is, ☐ is not an EDWOSB concern, has provided all the required documents to the WOSB Repository, and no change in circumstances or adverse decisions have been issued that affects its eligibility; and

(ii) It ☐ is, ☐ is not a joint venture that complies with the requirements of 13 CFR part 127, and the representation in paragraph (c)(7)(i) of this provision is accurate for each EDWOSB concern participating in the joint venture. [The offeror shall enter the name or names of the EDWOSB concern and other small businesses that are participating in the joint venture: _____.] Each EDWOSB concern participating in the joint venture shall submit a separate signed copy of the EDWOSB representation.

* * * * *

13. Amend section 52.212-5 by revising the date of the clause and paragraphs (b)(24) and (b)(25) to read as follows:

52.212-5 Contract Terms and Conditions Required to Implement Statutes or Executive Orders—Commercial Items.

* * * * *

Contract Terms and Conditions Required to Implement Statutes or Executive Orders—Commercial Items (APR 2012)

* * * * *

(b) * * *

_ (24) 52.219-29, Notice of Set-Aside for Economically Disadvantaged Women-Owned Small Business (EDWOSB) Concerns (APR 2012) (15 U.S.C. 637(m)).

_ (25) 52.219-30, Notice of Set-Aside for Women-Owned Small Business (WOSB) Concerns Eligible Under the WOSB Program (APR 2012) (15 U.S.C. 637(m)).

* * * * *

14. Amend section 52.219-1 by revising the date of the provision and paragraphs (b)(4)(ii) and (b)(5)(ii) to read as follows:

52.219-1 Small Business Program Representations.

* * * * *

Small Business Program Representations (APR 2012)

* * * * *

(b) * * *

(4) * * *

(ii) It ☐ is, ☐ is not a joint venture that complies with the requirements of 13 CFR part 127, and the representation in paragraph (b)(4)(i) of this provision is accurate for each WOSB concern eligible under the WOSB Program participating in the joint venture. [The offeror shall enter the name or names of the WOSB concern eligible under the WOSB Program and other small businesses that are participating in the joint venture: _____.] Each WOSB concern eligible under the WOSB Program participating in the joint venture shall submit a separate signed copy of the WOSB representation.

(5) * * *

(ii) It ☐ is, ☐ is not a joint venture that complies with the requirements of 13 CFR part 127, and the representation in paragraph (b)(5)(i) of this provision is accurate for each EDWOSB concern participating in the joint venture. [The offeror shall enter the name or names of the EDWOSB concern and other small businesses that are participating in the joint venture: _____.] Each EDWOSB concern participating in the joint venture shall submit a separate signed copy of the EDWOSB representation.

* * * * *

15. Amend section 52.219-29 by—

a. Revising the date of the clause;

b. Removing from paragraph (c)(3) “EDWOSB concern” and adding “apparent successful offeror” in its place; and

c. Removing from paragraph (f) “An EDWOSB that” and adding “An EDWOSB concern that” in its place.

The revised text reads as follows:

52.219-29 Notice of Set-Aside for Economically Disadvantaged Women-Owned Small Business Concerns.

* * * * *

Notice of Set-Aside for Economically Disadvantaged Women-Owned Small Business Concerns (APR 2012)

* * * * *

16. Amend section 52.219-30 by—

a. Revising the date of the clause, paragraph (c), and the introductory text of paragraphs (d) and (e);

b. Removing from paragraph (e)(2) “concern;” and adding “concern eligible under the WOSB Program;” in its place;

c. Removing from paragraph (e)(3)(ii) “WOSB as” and adding “WOSB concern eligible under the WOSB Program as” in its place;

d. Revising paragraph (e)(5); and

e. Removing from paragraph (f) “WOSB that” and adding “WOSB concern eligible under the WOSB Program that” in its place.

The revised text reads as follows:

52.219-30 Notice of Set-Aside for Women-Owned Small Business Concerns Eligible Under the Women-Owned Small Business Program.

* * * * *

Notice of Set-Aside for Women-Owned Small Business Concerns Eligible Under the Women-Owned Small Business Program (APR 2012)

* * * * *

(c) General. (1) Offers are solicited only from WOSB concerns eligible under the WOSB Program. Offers received from concerns that are not WOSB concerns eligible under the WOSB program shall not be considered.

(2) Any award resulting from this solicitation will be made to a WOSB concern eligible under the WOSB Program.

(3) The Contracting Officer will ensure that the apparent successful offeror has provided the required documents to the WOSB Program Repository. The contract shall not be awarded until all required documents are received.

(d) Agreement. A WOSB concern eligible under the WOSB Program agrees that in the performance of the contract for— * * *

* * * * *

(e) Joint Venture. A joint venture may be considered a WOSB concern eligible under the WOSB Program if—

* * * * *

(5) The procuring activity executes the contract in the name of the WOSB concern eligible under the WOSB Program or joint venture.

* * * * *

[FR Doc. C2-2012-4475 Filed 3-23-12; 8:45 am]

BILLING CODE 1505-01-D